DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of January 6, 2016 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: October 30, 2015.
Roy E. Wright,
Deputy Associate Administrator for Insurance and Mitigation, Department of Homeland Security, Federal Emergency Management Agency.

I. Watershed-based studies:

II. Non-watershed-based studies:

Community | Community map repository address
Los Angeles County, California, and Incorporated Areas
Docket No.:FEMA-B-1440
City of Calabasas | City of Calabasas, 26134 Mureau Road, Suite 200, Calabasas, CA 91302.
City of Palos Verdes Estates | City of Palos Verdes Estates, 340 Palos Verdes Drive West, Palos Verdes Estates, CA 90274.
Unincorporated Areas of Los Angeles County | Los Angeles County Dept of Public Works, 900 S. Fremont Avenue, Alhambra, CA 91803.
Rensselaer County, New York (All Jurisdictions)
Docket No.: FEMA-B-1419
Town of Hoosick | Hoosick Town Building Department, New York State Armory, 80 Church Street, Hoosick Falls, NY 12090.
Town of Pittstown | Pittstown Town Hall, 97 Tomhannock Road, Valley Falls, NY 12185.
Town of Schaghticoke | Schaghticoke Town Hall, 290 Northline Drive, Melrose, NY 12121.
Village of Hoosick Falls | Municipal Building, 24 Main Street, Hoosick Falls, NY 12090.
Village of Schaghticoke | Municipal Building , 163 Main Street, Schaghticoke, NY 12154.
Village of Valley Falls | Village Office, 11 Charles Street, Valley Falls, NY 12185.
Bastrop County, Texas, and Incorporated Areas
Docket No.: FEMA-B-1419
Unincorporated Areas of Bastrop County | Bastrop County Developmental Services, 211 Jackson Street, Bastrop, TX 78602.
Travis County, Texas, and Incorporated Areas
Docket No.: FEMA-B-1419
City of Austin | Watershed Engineering Division, 505 Barton Springs Road, 12th Floor, Austin, TX 78704.
City of Creedmoor | City Hall, 5008 Hartung Lane, Creedmoor, TX 78610.
City of Mustang Ridge | City Offices, 12800 U.S. Highway 183 South, Mustang Ridge, TX 78610.
Unicorporated Areas of Travis County | Travis County Transportation and Natural Resources Department, 700 Lavaca Street, 5th Floor, Austin, TX 78701.

[FR Doc. 2015-30038 Filed 11-24-15; 8:45 am]

BILLING CODE 9110-12-P